DEPARTMENT OF THE INTERIOR

Fish and Wildlife Service

[FWS-R8-ES-2008-N0202; 81430-1112-0000-F2]

Proposed Low Effect Habitat Conservation Plan for Restoration and Management of the Linden H. Chandler Preserve, City of Rolling Hills Estates, County of Los Angeles, CA

AGENCY: Fish and Wildlife Service, Interior.

ACTION: Notice of availability.

SUMMARY: The Palos Verdes Peninsula Land Conservancy (applicant) has applied to the U.S. Fish and Wildlife Service (Service) for a 25-year incidental take permit for one covered species pursuant to section 10(a)(1)(B) of the Endangered Species Act of 1973, as amended (Act). The application addresses the potential for “take” of the endangered Palos Verdes blue butterfly (Glaucopsyche lygdamus palosverdesensis, “PVB”) associated with restoration and management of the Linden H. Chandler Preserve (“Preserve”) in the City of Rolling Hills Estates, Los Angeles County, California. Following reintroduction of PVB to the Preserve, measures to minimize impacts to PVB would be implemented as described in the proposed Restoration and Management of the Linden H. Chandler Preserve Low Effect Habitat Conservation Plan (proposed HCP), which would be implemented by the applicant.

We are requesting comments on the permit application and on the preliminary determination that the proposed HCP qualifies as a “Low-effect” Habitat Conservation Plan, eligible for a categorical exclusion under the National Environmental Policy Act (NEPA) of 1969, as amended. The basis for this determination is discussed in the Environmental Action Statement (EAS) and the associated Low Effect Screening Form, which are also available for public review.

DATES: Written comments should be received on or before September 12, 2008.

ADDRESSES: Comments should be addressed to the Field Supervisor, Fish and Wildlife Service, Carlsbad Fish and Wildlife Office, 6010 Hidden Valley Road, Carlsbad, California 92011. Written comments may be sent by facsimile to (760) 918-0638.

FOR FURTHER INFORMATION CONTACT: Ms. Karen Goebel, Assistant Field Supervisor, Carlsbad Fish and Wildlife Office (see ADDRESSES); telephone: (760) 431-9440.

SUPPLEMENTARY INFORMATION:

Availability of Documents

Individuals wishing copies of the application, proposed HCP, and EAS should immediately contact the Service by telephone at (760) 431-9440 or by letter to the Carlsbad Fish and Wildlife Office. Copies of the proposed HCP and EAS also are available for public inspection during regular business hours at the Carlsbad Fish and Wildlife Office [see ADDRESSES].

Background

Section 9 of the Act and its implementing Federal regulations prohibit the take of animal species listed as endangered or threatened. Take is defined under the Act as to harass, harm, pursue, hunt, shoot, wound, kill, trap, capture or collect listed animal species, or attempt to engage in such conduct (16 U.S.C. 1538). However, under section 10(a) of the Act, the Service may issue permits to authorize incidental take of listed species. “Incidental take” is defined by the Act as take that is incidental to, and not the purpose of, carrying out an otherwise lawful activity. Regulations governing incidental take permits for threatened and endangered species, respectively, are found in the Code of Federal Regulations at 50 CFR 17.22 and 50 CFR 17.32.

The applicant is seeking a permit for take of the Palos Verdes blue butterfly during the life of the permit. This species is referred to as the “PVB” in the proposed HCP. The PVB is restricted to the Palos Verdes Peninsula in Los Angeles County, California.

The applicant initiated native habitat restoration activities within the Preserve in 1999 and proposes to reintroduce PVB once suitable habitat for the species is established. Following reintroduction of PVB, the applicant will continue to maintain native plant cover and eliminate invasive species on up to 28.5 acres within the Preserve. Restoration and management activities may include irrigation system installation and repair, mechanical weed removal, application of herbicides, planting, seeding, mechanical weeding, and removal of organic debris as necessary to enhance habitat for PVB.

The applicant proposes to minimize the effects to PVB associated with the proposed restoration activities by restricting certain activities during the flight season (February 15 to June 15), and avoiding disturbance to host plants and surrounding soil. The applicant will also conduct surveys for PVB for the first five years following reintroduction and a minimum of every three years thereafter to track peak abundance and patterns of occupancy within the Preserve. Restoration activities have the potential to result in take of a small number of PVB pupae if host plants and surrounding soil are incidentally disturbed. Surveys for PVB during the flight season have the potential to take a small number of adults if they are flushed from the site and not able to successfully reproduce. The project will result in an increase in the quality and quantity of habitat for PVB within the Preserve; therefore, no additional mitigation is proposed.

The Proposed Action consists of the issuance of an incidental take permit and implementation of the proposed HCP, which includes measures to minimize impacts of the project on PVB. One alternative to the taking of the listed species under the Proposed Action is considered in the proposed HCP. Under the No Action Alternative, no permit would be issued, and reintroduction of PVB to the Preserve would not occur. Management and restoration efforts would continue in the Preserve; however, the threat of extinction of PVB in the wild would remain high.

The Service has made a preliminary determination that approval of the proposed HCP qualifies as a categorical exclusion under NEPA, as provided by the Department of the Interior Manual (516 DM8) and as a “low-effect” plan as defined by the Habitat Conservation Planning Handbook (November 1996). Determination of Low-effect Habitat Conservation Plans is based on the following three criteria: (1) Implementation of the proposed HCP would result in minor or negligible effects on federally listed, proposed, and candidate species and their habitats; (2) Implementation of the proposed HCP would result in minor or negligible effects on other environmental values or resources; and (3) Impacts of the proposed HCP, considered together with the impacts of other past, present and reasonably foreseeable similarly situated projects, would not result, over time, in cumulative effects to environmental values or resources which would be considered significant.

Based upon this preliminary determination, we do not intend to prepare further NEPA documentation. We will consider public comments in making the final determination on whether to prepare such additional documentation.

Before including your address, phone number, e-mail address, or other personal identifying information in your comment, you should be aware that your entire comment—including your personal identifying information—may be made publicly available at any time. While you can ask us in your comment to withhold your personal identifying information from public review, we cannot guarantee that we will be able to do so.

This notice is provided pursuant to section 10(c) of the Act. We will evaluate the permit application, the proposed HCP, and comments submitted thereon to determine whether the application meets the requirements of section 10(a) of the Act. If the requirements are met, we will issue a permit to Palos Verdes Peninsula Land Conservancy for the incidental take of the Palos Verdes blue butterfly from restoration and management of the Linden H. Chandler Preserve in the City of Rolling Hills Estates, Los Angeles County, California.

Dated: August 7, 2008.
Jim A. Bartel,
Field Supervisor, Carlsbad Fish and Wildlife Office, Carlsbad, California.

[FR Doc. E8-18685 Filed 8-12-08; 8:45 am]

BILLING CODE 4310-55-P